DEPARTMENT OF ENERGY

Federal Energy Regulatory Commission

[Project No. 2233-066 Oregon]

Portland General Electric Company; Notice of Availability of Environmental Assessment

October 29, 2007.

An environmental assessment (EA) is available for public review. The EA was prepared for an application filed by Portland General Electric Company (licensee) on December 29, 2006, and supplemented on February 26, 2007, requesting Commission approval of an amendment of license to increase the height of temporary flashboards on the concrete dam along the crest of Willamette Falls from 2.0 feet to 3.5 feet, in addition to other modifications, at the Willamette Falls Hydroelectric Project. The project is located on the Willamette River near the cities of West Linn and Oregon City in Clackamas County, Oregon. The project does not occupy any federal lands.

The EA evaluates the environmental impacts that would result from approving the licensee's proposed increase in flashboard height and installation of temporary adult lamprey passage structures. The EA finds that approval of the amendment application, combined with Commission modifications, would not constitute a major federal action significantly affecting the quality of the human environment.

A copy of the EA is attached to a Commission order titled “Order Amending License,” issued October 29, 2007, and is available for review in the Commission's Public Reference Room. A copy of the EA may also be viewed on the Commission's Web site at http://www.ferc.gov using the “eLibrary” link. Enter the docket number (P-2233) in the docket number field to access the document. For assistance, contact FERC Online Support at FERCOnlineSupport@ferc.gov or toll-free at 1-866-208-3676, or for TTY, (202) 502-8659.

Kimberly D. Bose,
Secretary.

[FR Doc. E7-21660 Filed 11-2-07; 8:45 am]

BILLING CODE 6717-01-P